DEPARTMENT OF AGRICULTURE

Food Safety and Inspection Service

9 CFR Part 327

[Docket No. 02-019F]

RIN 0583-AD16

Addition of Chile to the List of Countries Eligible To Export Meat and Meat Products to the United States

AGENCY: Food Safety and Inspection Service, USDA.

ACTION: Final rule.

SUMMARY: The Food Safety and Inspection Service (FSIS) is adding Chile to the list of countries eligible to export meat and meat products to the United States. FSIS conducted a thorough review of Chile's meat slaughter and processing inspection system, including an on-site review of its meat inspection system in operation. FSIS concluded that Chile's meat inspection laws, regulations, and other written materials demonstrate that they establish requirements that are equivalent to the relevant requirements of the Federal Meat Inspection Act (FMIA) and its implementing regulations, and that Chile's implementation of meat inspection standards and procedures is equivalent to that of the United States.

Meat and meat products slaughtered and processed in certified Chilean establishments may be exported to the United States. All such products will be subject to re-inspection by FSIS inspectors at U.S. ports-of-entry as required by law.

DATES: Effective Date: December 21, 2005.

FOR FURTHER INFORMATION CONTACT: Ms. Sally White, Director, International Equivalence Staff, Office of International Affairs; (202) 720-6400.

SUPPLEMENTARY INFORMATION:

Background

On May 10, 2005, FSIS published a proposal in the Federal Register (70 FR 24485-24488) to add Chile to the list of countries eligible to export meat and meat products to the United States (9 CFR 327(b)). As discussed in that proposed rulemaking, the government of Chile requested approval to export meat and meat products to the United States. In response to this request, FSIS conducted a thorough review of Chile's meat slaughter and processing inspection system to determine whether it is equivalent to the U.S. meat inspection system. FSIS concluded that the requirements contained in Chile's meat inspection laws and regulations are equivalent to those mandated by the FMIA and implementing regulations. FSIS then conducted an on-site review of Chile's meat inspection system in operation. The FSIS review team concluded that Chile's implementation of meat inspection standards and procedures is equivalent to that of the United States.

The government of Chile will certify to FSIS establishments wishing to export products to the United States. FSIS will retain the right to verify that establishments certified by the Chilean government are meeting requirements equivalent to those of FSIS. This will be done through annual on-site reviews of the establishments while they are in operation.

Products from a country eligible to export meat and meat products must also comply with all other U.S. requirements, including those of the U.S. Customs Service and the restrictions under title 9, part 94 of the Animal and Plant Health Inspection Service (APHIS) regulations that relate to the importation of meat and meat products from foreign countries into the United States. APHIS is responsible for keeping foreign animal diseases out of the United States. APHIS restricts the importation of any fresh, frozen, and chilled meat, meat products, and edible products from countries in which certain animal diseases exist. Those products that APHIS has restricted from entering the United States are refused entry. FSIS works closely with APHIS in coordinating its import inspection system so as to allow into the United States only meat products that APHIS has found to pose no animal health risk.

Comments

FSIS received 11 comments on the proposed rule. All comments were positive, and no objections were raised.

Executive Order 12866 and Regulatory Flexibility Act

This rule has been reviewed under Executive Order 12866. It has been determined to be not significant for purposes of E.O. 12866 and therefore has not been reviewed by the Office of Management and Budget (OMB).

Listing Chile as eligible to export meat to the United States would add only a small portion to total U.S. meat imports. The additional product shipments are likely to have only a slight effect on the Agency's assignment of import inspection resources at points of entry on the East and West coasts. It is unlikely, on the basis of current information, that any additional import inspection personnel would need to be hired.

The impact of this rule on U.S. consumers is voluntary in that consumers will not be required to purchase meat products slaughtered and processed in Chile, although they may choose to do so. Expected benefits from this type of rule would accrue primarily to consumers in the form of competitive prices due to a larger market variety of meat products. The volume of trade stimulated by this rule, however, will likely be so small as to have little effect on supply and prices. Consumers, apart from any change in prices, would benefit from increased choices in the marketplace.

The costs of this rule will accrue primarily to producers in the form of greater competition from Chile. Again, it must be noted that the volume of trade stimulated by this rule will be small, likely having little effect on supply and prices. Nonetheless, it is possible that U.S. firms that produce products that would compete with Chilean imports could face short-term difficulty. In the long run, however, such firms could adjust their product mix in order to compete effectively.

Benefits would include increased trade with Chile and the availability to U.S. consumers of a greater quantity of meat of the kinds mentioned. Wholesale prices of all grades of these products have been moving upward during the last several years. Importing beef, pork, and lamb from Chile would not affect this trend or would do so only very slightly. Both nations would benefit from an expansion of trade in meat as part of a wide range of commodities.

Executive Order 12988

This final rule has been reviewed under Executive Order 12988, Civil Justice Reform. When this final rule is adopted: (1) All State and local laws and regulations that are inconsistent with this rule will be preempted; (2) no retroactive effect will be given to this rule; and (3) administrative proceedings will not be required before parties may file suit in court challenging this rule.

Effect on Small Entities

The Administrator, FSIS, has made a determination that this final rule will not have a significant impact on a substantial number of small entities, as defined by the Regulatory Flexibility Act (5 U.S.C. 601). This final rule will add Chile to the list of countries eligible to export meat and meat products to the United States. The volume of trade stimulated by this rule will be small and would have relatively little effect on supply and prices. Therefore, this final rule is not expected to have a significant impact on small entities that produce these types of products domestically.

Paperwork Requirements

No new paperwork requirements are associated with this final rule. Foreign countries wanting to export meat and meat products to the United States are required to provide information to FSIS certifying that their inspection systems provide standards equivalent to those of the United States, and that the legal authority for the systems and their implementing regulations are equivalent to those of the United States, before they may start exporting such product to the United States. FSIS collects this information one time only. FSIS gave Chile questionnaires asking for detailed information about the country's inspection practices and procedures to assist the country in organizing its materials. This information collection was approved under OMB number 0583-0094. The final rule contains no other paperwork requirements.

Additional Public Notification

Public awareness of all segments of rulemaking and policy development is important. Consequently, in an effort to ensure that the public and in particular minorities, women, and persons with disabilities, are aware of this final rule, FSIS will announce it on-line through the FSIS Web page located at http://www.fsis.usda.gov/regulations_&_policies/2005_Final_Rules_Index/index.asp. The Regulations.gov Web site is the central online rulemaking portal of the United States Government. It is being offered as a public service to increase participation in the Federal Government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an electronic mail subscription service which provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

List of Subjects in 9 CFR Part 327

Imported Products.

For the reasons set out in the preamble, FSIS is amending 9 CFR part 327 as follows:

PART 327—IMPORTED PRODUCTS

1. The authority citation for part 327 continues to read as follows:

Authority: 21 U.S.C. 601-695; 7 CFR 2.18, 2.53.

§ 327.2 [Amended]

2. Section 327.2 is amended by adding Chile in alphabetical order to the list of countries in paragraph (b).

Done at Washington, DC, on: October, 11, 2005.
Barbara J. Masters,
Administrator.

[FR Doc. 05-22980 Filed 11-18-05; 8:45 am]

BILLING CODE 3410-DM-P